DEPARTMENT OF ENERGY

Federal Energy Regulatory Commission

Combined Notice of Filings #1

January 31, 2011.

Take notice that the Commission received the following electric rate filings:

Docket Numbers: ER93-3-009.

Applicants: The United Illuminating Company.

Description: Supplement to Notice of Change in Status of The United Illuminating Company.

Filed Date: 01/28/2011.

Accession Number: 20110128-5319.

Comment Date: 5 p.m. Eastern Time on Friday, February 18, 2011.

Docket Numbers: ER98-4109-008; ER99-3426-014; ER01-1178-008; ER03-175-012; ER03-427-010; ER04-170-012; ER08-100-013; ER09-1453-004; ER09-1655-003.

Applicants: El Dorado Energy, LLC; San Diego Gas & Electric Company; Sempra Energy Resources; Termoelectrica U.S., LLC; Mesquite Power, LLC; MxEnergy Electric Inc.; Sempra Energy Trading LLC; Gateway Energy Services Corporation; Fowler Ridge II Wind Farm LLC.

Description: Notice of Non-Material Change in Status.

Filed Date: 01/28/2011.

Accession Number: 20110128-5299.

Comment Date: 5 p.m. Eastern Time on Friday, February 18, 2011.

Docket Numbers: ER00-2885-036; ER01-2765-035; ER02-2102-035; ER05-1232-035; ER07-1113-017; ER09-1141-015.

Applicants: Cedar Brakes I, L.L.C.; Cedar Brakes II, L.L.C.; Utility Contract Funding, L.L.C.; J.P. Morgan Ventures Energy Corporation; BE CA LLC; J.P. Morgan Commodities Canada Corporation.

Description: JPMorgan Sellers Notice of Non-Material Change in Status.

Filed Date: 01/31/2011.

Accession Number: 20110131-5044.

Comment Date: 5 p.m. Eastern Time on Tuesday, February 22, 2011.

Docket Numbers: ER10-1520-002; ER10-1521-002; ER10-1522-002; ER10-3028-001.

Applicants: Occidental Chemical Corporation, Occidental Power Services, Inc., Elk Hills Power, LLC, Occidental Power Marketing, L.P.

Description: Notice of Change in Status of Occidental Chemical Corporation, et. al.

Filed Date: 01/28/2011.

Accession Number: 20110128-5318.

Comment Date: 5 p.m. Eastern Time on Friday, February 18, 2011.

Docket Numbers: ER11-1870-002.

Applicants: Consolidated Edison Company of New York, Inc.

Description: Consolidated Edison Company of New York, Inc. submits tariff filing per 35.17(b): Amendment to DR filing to be effective 1/31/2011.

Filed Date: 01/31/2011.

Accession Number: 20110131-5001.

Comment Date: 5 p.m. Eastern Time on Tuesday, February 22, 2011.

Docket Numbers: ER11-1954-002.

Applicants: Wisconsin Power and Light Company.

Description: Wisconsin Power and Light Company submits tariff filing per 35.17(b): IPL WPL-LBA Second Amendment to be effective 12/28/2010.

Filed Date: 01/27/2011.

Accession Number: 20110127-5153.

Comment Date: 5 p.m. Eastern Time on Thursday, February 17, 2011.

Docket Numbers: ER11-2460-001.

Applicants: PJM Interconnection, L.L.C.

Description: PJM Interconnection, L.L.C. submits tariff filing per 35: Amendment to Tariff Section 4.2 in Docket No. ER11-2460-000 to be effective 4/1/2011.

Filed Date: 01/27/2011.

Accession Number: 20110127-5142.

Comment Date: 5 p.m. Eastern Time on Thursday, February 17, 2011.

Docket Numbers: ER11-2795-000.

Applicants: Pacific Gas and Electric Company.

Description: Pacific Gas and Electric Company submits tariff filing per 35.13(a)(2)(iii: CCSF IA-29th-32nd Quarterly Filing of Facilities to be effective 4/28/2010.

Filed Date: 01/31/2011.

Accession Number: 20110131-5002.

Comment Date: 5 p.m. Eastern Time on Tuesday, February 22, 2011.

Docket Numbers: ER11-2796-000.

Applicants: PacifiCorp.

Description: Cancellation of PacifiCorp Service Agreement FERC No 644 Volume No. 11 Open Access Transmission Tariff, a Small Generator Interconnection Agreement Facilities Maintenance Agreement with Lakeview Cogeneration, LLC.

Filed Date: 01/28/2011.

Accession Number: 20110128-5304.

Comment Date: 5 p.m. Eastern Time on Friday, February 18, 2011.

Docket Numbers: ER11-2797-000.

Applicants: Southern Company Services, Inc., Mississippi Power Company.

Description: Notice of Cancellation of Network Integration Transmission Service Agreements of Southern Company Services, Inc.

Filed Date: 01/28/2011.

Accession Number: 20110128-5315.

Comment Date: 5 p.m. Eastern Time on Friday, February 18, 2011.

Docket Numbers: ER11-2798-000.

Applicants: Unidentified Registered Entity.

Description: Request for Recovery of Charges of Unidentified Registered Entity.

Filed Date: 01/31/2011.

Accession Number: 20110131-4001.

Comment Date: 5 p.m. Eastern Time on Tuesday, February 22, 2011.

Docket Numbers: ER11-2799-000.

Applicants: Arizona Public Service Company.

Description: Arizona Public Service Company submits tariff filing per 35: Compliance Filing for Order No. 676-E to be effective 4/1/2011.

Filed Date: 01/31/2011.

Accession Number: 20110131-5059.

Comment Date: 5 p.m. Eastern Time on Tuesday, February 22, 2011.

Docket Numbers: ER11-2800-000.

Applicants: Southern California Edison Company.

Description: Southern California Edison Company submits tariff filing per 35.13(a)(2)(iii: SGIA & Service Agreement Sunshine Canyon Landfill Project SA Nos. 295 and 296 to be effective 2/1/2011.

Filed Date: 01/31/2011.

Accession Number: 20110131-5132.

Comment Date: 5 p.m. Eastern Time on Tuesday, February 22, 2011.

Take notice that the Commission received the following land acquisition reports:

Docket Numbers: LA10-3-000.

Applicants: Iberdrola Renewables, Inc.; Atlantic Renewable Projects II LLC; Barton Windpower LLC; Big Horn Wind Project LLC; Big Horn II Wind Project LLC; Blue Creek Wind Farm LLC; Buffalo Ridge I LLC; Buffalo Ridge II LLC; Casselman Windpower LLC; Colorado Green Holdings LLC; Dillon Wind LLC; Dry Lake Wind Power, LLC; Dry Lake Wind Power II LLC; Elk River Windfarm, LLC; Elm Creek Wind, LLC; Elm Creek Wind II LLC; Farmers City Wind, LLC; Flat Rock Windpower LLC; Flat Rock Windpower II LLC; Flying Cloud Power Partners, LLC; Hardscrabble Wind Power LLC; Hay Canyon Wind LLC; Juniper Canyon Wind Power LLC; Klamath Energy LLC; Klamath Generation LLC; Klondike Wind Power LLC; Klondike Wind Power II LLC; Klondike Wind Power III LLC; Leaning Juniper Wind Power II LLC; Lempster Wind, LLC; Locust Ridge Wind Farm, LLC; Locust Ridge Wind Farm II, LLC; MinnDakota Wind LLC; Moraine Wind LLC; Moraine Wind II LLC; Mountain View Power Partners III, LLC; New Harvest Wind Project LLC; Northern Iowa Windpower II LLC; Pebble Springs Wind LLC; Providence Heights Wind, LLC; Rugby Wind LLC; Shiloh I Wind Project, LLC; Star Point Wind Project LLC; Streator-Cayuga Ridge Wind Power LLC; Trimont Wind I LLC; Twin Buttes Wind LLC.

Description: Amended Land Acquisition Report of Iberdrola Renewables, Inc., et. al.

Filed Date: 01/31/2011.

Accession Number: 20110131-5137.

Comment Date: 5 p.m. Eastern Time on Tuesday, February 22, 2011.

Docket Numbers: LA10-4-000.

Applicants: Spring Canyon Energy LLC; Judith Gap Energy LLC; Invenergy TN LLC; Wolverine Creek Energy LLC; Grays Harbor Energy LLC; Forward Energy LLC; Grand Ridge Energy LLC; Willow Creek Energy LLC; Sheldon Energy LLC; Hardee Power Partners Limited; Spindle Hill Energy LLC; Invenergy Cannon Falls LLC; Beech Ridge Energy LLC; Grand Ridge Energy II LLC; Grand Ridge Energy III LLC; Grand Ridge Energy IV LLC; Grand Ridge Energy V LLC; Vantage Wind Energy LLC; White Oak Energy LLC.

Description: Generation Site Report Fourth Quarter 2010 of Spring Canyon Energy LLC, et. al.

Filed Date: 01/28/2011.

Accession Number: 20110128-5158.

Comment Date: 5 p.m. Eastern Time on Friday, February 18, 2011.

Docket Numbers: LA10-4-000.

Applicants: Arthur Kill Power LLC; Astoria Gas Turbine Power LLC; Bayou cove Peaking Power LLC; Big Cajun I Peaking Power LLC; Cabrillo Power I LLC; Cabrillo Power II LLC; Conemaugh Power LLC; Connecticut Jet Power LLC; Cottonwood Energy Power LLC; Devon Power LLC; Dunkirk Power LLC; El Segundo Power, LLC; El Segundo Power II LLC; GenConn Devon LLC; GenConn Energy LLCC; GenConn Middletown LLC; Green Mountain Energy Company; Huntley Power LLC; Indian River Power LLC; Keystone Power LLC; Long Beach Generation LLC; Long Beach Peakers LLC; Louisiana Generating LLC; Middletown Power LLC; Montville Power LLC; NEO Freehold-Gen LLC; Norwalk Power LLC; NRG Energy Center Dover LLC; NRG Energy Center Paxton LLC; NRG New Jersey Energy Sales LLC; NRG Power Marketing LLC; NRG Rockford LLC; NRG Solar Blythe LLC; Oswego Harbor Power LLC; Saguaro Power Company, A Limited Partnership; Somerset Power LLC; Vienna Power LLC.

Description: Supplemental Information/Request of NRG Power Marketing LLC, Order 697-C Compliance Filing Regarding Site Control and Request for Waiver.

Filed Date: 01/31/2011.

Accession Number: 20110131-5138.

Comment Date: 5 p.m. Eastern Time on Tuesday, February 22, 2011.

Docket Numbers: LA10-4-000.

Applicants: Iberdrola Renewables, Inc.; Atlantic Renewable Projects II LLC; Barton Windpower LLC; Big Horn Wind Project LLC; Big Horn II Wind Project LLC; Blue Creek Wind Farm LLC; Buffalo Ridge I LLC; Buffalo Ridge II LLC; Casselman Windpower LLC; Colorado Green Holdings LLC; Dillon Wind LLC; Dry Lake Wind Power, LLC; Dry Lake Wind Power II LLC; Elk River Windfarm, LLC; Elm Creek Wind, LLC; Elm Creek Wind II LLC; Farmers City Wind, LLC; Flat Rock Windpower LLC; Flat Rock Windpower II LLC; Flying Cloud Power Partners, LLC; Hardscrabble Wind Power LLC; Hay Canyon Wind LLC; Juniper Canyon Wind Power LLC; Klamath Energy LLC; Klamath Generation LLC; Klondike Wind Power LLC; Klondike Wind Power II LLC; Klondike Wind Power III LLC; Leaning Juniper Wind Power II LLC; Lempster Wind, LLC; Locust Ridge Wind Farm, LLC; Locust Ridge Wind Farm II, LLC; MinnDakota Wind LLC; Moraine Wind LLC; Moraine Wind II LLC; Mountain View Power Partners III, LLC; New Harvest Wind Project LLC; Northern Iowa Windpower II LLC; Pebble Springs Wind LLC; Providence Heights Wind, LLC; Rugby Wind LLC; Shiloh I Wind Project, LLC; Star Point Wind Project LLC; Streator-Cayuga Ridge Wind Power LLC; Trimont Wind I LLC; Twin Buttes Wind LLC.

Description: Land Acquisition Report of Iberdrola Renewables, Inc., et. al.

Filed Date: 01/31/2011.

Accession Number: 20110131-5139.

Comment Date: 5 p.m. Eastern Time on Tuesday, February 22, 2011.

Docket Numbers: LA10-4-000.

Applicants: Alabama Electric Marketing, LLC; Big Sandy Peaker Plant, LLC; California Electric Marketing, LLC; Crete Energy Venture, LLC, High Desert Power Project, LLC; Kiowa Power Partners, LLC; Lincoln Generating Facility, LLC; New Covert Generating Company, LLC; New Mexico Electric Marketing, LLC; Rolling Hills Generating, L.L.C.; Tenaska Alabama Partners, L.P.; Tenaska Alabama II Partners, L.P. Tenaska Frontier Partners, Ltd.; Tenaska Gateway Partners, Ltd; Tenaska Georgia Partners, L.P.; Tenaska Power Services Co.; Tenaska Virginia Partners, L.P.; Tenaska Washington Partners, L.P.; Texas Electric Marketing, LLC; TPF Generation Holdings, LLC; University Park Energy, LLC; Wolf Hills Energy, LLC.

Description: Quarterly Land Acquisition Report of Alabama Electric Marketing, LLC, et. al.

Filed Date: 01/31/2011.

Accession Number: 20110131-5140.

Comment Date: 5 p.m. Eastern Time on Tuesday, February 22, 2011.

Take notice that the Commission received the following qualifying facility filings:

Docket Numbers: QF11-125-000.

Applicants: State University of Iowa.

Description: University of Iowa's FERC Form 556 Notice of Certification of Qualifying Facility Status for a Small Power Production or Cogeneration Facility.

Filed Date: 01/28/2011.

Accession Number: 20110128-5310.

Comment Date: 5 p.m. Eastern Time on Friday, January 28, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. 2011-2666 Filed 2-7-11; 8:45 am]

BILLING CODE 6717-01-P